DEPARTMENT OF AGRICULTURE

Grain Inspection, Packers and Stockyards Administration

Official Barley Protein Measurement

AGENCY: Grain Inspection, Packers and Stockyards Administration, USDA.

ACTION: Notice.

SUMMARY: The Grain Inspection, Packers and Stockyards Administration (GIPSA) is announcing its intent to provide official protein content measurement for barley using an Artificial Neural Network (ANN) calibration on the official near-infrared transmittance (NIRT) instruments. GIPSA will provide protein content measurement in barley as official criteria under the authority of the United States Grain Standards Act (USGSA).

EFFECTIVE DATE: July 1, 2005.

FOR FURTHER INFORMATION CONTACT: Steven N. Tanner, Director, Technical Services Division, GIPSA, USDA, 10383 N. Ambassador Drive, Kansas City, Missouri 64153; telephone (816) 891-0401; fax (816) 891-0478.

SUPPLEMENTARY INFORMATION: GIPSA's official inspection system has not previously offered an official test for barley protein content. Recently developed state-of-the-art Artificial Neural Network (ANN) calibration development techniques, allow for wheat and barley protein content to be determined with a greater degree of accuracy than was possible with more limited calibration approaches. GIPSA will begin using an ANN calibration for official wheat protein content measurement in May 2005 (69 FR 52645).

The barley protein content testing service will be available, upon request of an interested person, as official criteria for barley, under the authority of the USGSA, as amended.

Therefore, to better facilitate the marketing of barley, and provide official barley protein testing to producers and other interested parties on a voluntary basis, GIPSA is establishing a new official criteria, available upon request, to determine the protein content of barley. GIPSA believes offering this service will facilitate the marketing of malting barley, by providing a fair, accurate and transparent third party determination, backed by a national quality control process, and standardized instrumentation, reference samples, calibrations and procedures. As part of GIPSA's on-going efforts to evaluate calibrations and programs, GIPSA has thoroughly evaluated the accuracy of the ANN calibration. ANN-related information may be found on GIPSA's Web site at: http://www.usda.gov/gipsa.

Based on its evaluation, GIPSA has decided to implement the new ANN barley protein calibration on official NIRT instruments on July 1, 2005.

Authority: 7 U.S.C. 71 et seq.

Donna Reifschneider,
Administrator, Grain Inspection, Packers and Stockyards Administration.

[FR Doc. 04-24647 Filed 11-3-04; 8:45 am]

BILLING CODE 3410-EN-P